DEPARTMENT OF ENERGY

Federal Energy Regulatory Commission

[Docket No. CP15-552-000]

Northern Natural Gas Company; Notice of Schedule for Environmental Review of the Gaines County Crossover Compressor Station Project

On September 9, 2015, Northern Natural Gas Company (Northern) filed an application in Docket No. CP15-552-000 requesting a Certificate of Public Convenience and Necessity pursuant to Section 7(c) of the Natural Gas Act to construct and operate a new compressor station in Gaines County, Texas. The proposed project is known as the Gaines County Crossover Compressor Station Project (Project), and would deliver an additional 210 million standard cubic feet of natural gas per day to supply natural gas for electrical power plants.

On September 22, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—May 9, 2016

90-day Federal Authorization Decision Deadline—August 7, 2016

If a schedule change becomes necessary, additional notice will be provided so that the relevant agencies are kept informed of the Project's progress.

Project Description

The Project would include installation of two compressor units with a combined horsepower of 18,089. The suction side of the compressor station would be connected to Northern's existing 30-inch-diameter Spraberry to Plains Pipeline. The station would discharge to Northern's existing 30-inch-diameter Kermit to Beaver Pipeline. The proposed Project would also include the installation of two compressor buildings, a control building, an auxiliary building, associated above-grade and below-grade piping, and valves and instrumentation.

Background

On October 22, 2015, the Commission issued a Notice of Intent to Prepare an Environmental Assessment for the Proposed Gaines County Crossover Compressor Station and Request for Comments on Environmental Issues (NOI). The NOI was sent to affected landowners; federal, state, and local government agencies; elected officials; environmental and public interest groups; Native American tribes; other interested parties; and local libraries and newspapers. In response to the NOI, the Commission received one comment from the Bureau of Indian Affairs recommending consultation with four different tribes with historic traditions in the area. No issues of environmental concern were raised by the commentor.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-552), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: February 19, 2016.
Nathaniel J. Davis, Sr.,
Deputy Secretary.

[FR Doc. 2016-04146 Filed 2-25-16; 8:45 am]

BILLING CODE 6717-01-P